SMALL BUSINESS ADMINISTRATION

Renewal of Discretionary Advisory Committees

AGENCY: U.S. Small Business Administration (SBA).

ACTION: Notice of Renewal of Discretionary Advisory Committees.

SUMMARY: Pursuant to the Federal Advisory Committee Act and its implementing regulations, SBA is issuing this notice to announce the renewal of two discretionary advisory committees. These advisory committees are being renewed to help the agency serve the small business community.

FOR FURTHER INFORMATION CONTACT: Questions about SBA's Advisory Committees can be directed to SBA's Committee Management Officer, Dan Jones, telephone (202) 205-7583, fax (202) 481-6536, email dan.jones@sba.gov or mail, U.S. Small Business Administration, 409 3rd Street SW., 7th Floor, Washington, DC 20416.

SUPPLEMENTARY INFORMATION: As required by the Federal Advisory Committee Act, 5 U.S.C. app., SBA is renewing the following advisory committees pursuant to Section 8(b)(13) of the Small Business Act (15 U.S.C. 637(b)): (1) Small Business Administration Audit and Financial Management Advisory Committee; and (2) Small Business Administration Buffalo District Advisory Council.

Dated: February 7, 2012.
Dan Jones,
SBA Committee Management Officer.

[FR Doc. 2012-3308 Filed 2-10-12; 8:45 am]

BILLING CODE P